ENVIRONMENTAL PROTECTION AGENCY

[EPA-HQ-OAR-2003-0152; FRL-9998-53-OAR]

Proposed Information Collection Request; Comment Request; Compliance Assurance Monitoring Program (Renewal)

AGENCY: Environmental Protection Agency (EPA).

ACTION: Notice.

SUMMARY: The U.S. Environmental Protection Agency is planning to submit an information collection request (ICR), “Compliance Assurance Monitoring Program (Renewal)” (EPA ICR No. 1663.10, OMB Control No. 2060-0376) to the Office of Management and Budget (OMB) for review and approval in accordance with the Paperwork Reduction Act (PRA). Before doing so, the EPA is soliciting public comments on specific aspects of the proposed information collection as described below. This is a proposed extension of the ICR, which is currently approved through June 30, 2020. An Agency may not conduct or sponsor and a person is not required to respond to a collection of information unless it displays a currently valid OMB control number.

DATES: Comments must be submitted on or before October 25, 2019.

ADDRESSES: Submit your comments, referencing Docket ID No. EPA-HQ-OAR-2003-0152, online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information or other information whose disclosure is restricted by statute.

FOR FURTHER INFORMATION CONTACT: Mr. Muntasir Ali, Office of Air Quality Planning and Standards, Sector Policies and Programs Division (D243-05), Environmental Protection Agency, Research Triangle Park, North Carolina 27711; telephone number: (919) 541-0833; email address: ali.muntasir@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the EPA Docket Center is 202-566-1744. For additional information about the EPA's public docket, visit https://www.epa.gov/dockets.

Pursuant to section 3506(c)(2)(A) of the PRA, the EPA is soliciting comments and information to enable it to: (1) Evaluate whether the proposed collection of information is necessary for the proper performance of the functions of the Agency, including whether the information will have practical utility; (2) evaluate the accuracy of the Agency's estimate of the burden of the proposed collection of information, including the validity of the methodology and assumptions used; (3) enhance the quality, utility, and clarity of the information to be collected; and (4) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register document to announce the submission of the ICR to OMB and the opportunity to submit additional comments to OMB.

Abstract: The Clean Air Act (CAA) contains several provisions directing the EPA to require source owners to conduct monitoring to support certification as to their status of compliance with applicable requirements. These provisions are set forth in section 504 and section 114 of the CAA. Under CAA section 504(c), each operating permit must “set forth inspection, entry, monitoring, compliance, certification and reporting requirements to assure compliance with the permit terms and conditions.” See also CAA section 504(c) (each permit shall require reporting of monitoring the EPA and such other conditions as are necessary to assure compliance). CAA section 504(b) allows to prescribe by rule, methods and procedures for determining compliance, recognizing that continuous emissions monitoring systems need not be required if other procedures or methods provide sufficiently reliable and timely information for determining compliance. Section 114(a)(1) of the CAA provides additional authority concerning monitoring, reporting, and recordkeeping requirements. This section provides the Administrator with the authority to require any owner/operator of a source to install and to operate monitoring systems and to record the resulting monitoring data. The EPA promulgated the Compliance Assurance Monitoring (CAM) Rule, 40 CFR part 64, on October 22, 1997 (62 FR 54900), pursuant to these provisions. In accordance with CAA section 114(c) and CAA section 503(e), the monitoring information source owners must submit must also be available to the public except under circumstances set forth in section 114(c) of the CAA. An agency may not conduct or sponsor, and a person is not required to respond to a collection of information unless it displays a currently valid OMB control number. The OMB control numbers for the EPA's regulations are listed in 40 CFR part 9.

Form numbers: None.

Respondents/affected entities: Entities potentially affected by this section are all facilities required to have an operating permit under title V of the CAA. See section 502(a) of the CAA, which defines the sources to obtain a title V permit. See also 40 CFR 70.2 and 71.2.

Respondent's obligation to respond: Mandatory under title V of the CAA. See section 502(a) of the CAA, which defines the sources required to obtain a title V permit. See also 40 CFR 70.2 and 71.2.

Estimated number of respondents: There are 21,448 pollutant specific emission units (PSEUs), where the number of respondents is the number of PSEUs subject to the compliance assurance monitoring rule, and 117 permitting authorities. Therefore, the estimated number of respondents is 21,565 (total).

Frequency of response: At least every 6 months per title V, 40 CFR 70.6(a)(3)(iii)(A) and (B).

Total estimated burden: 24,590 hours (per year). Burden is defined at 5 CFR 1320.03(b).

Total estimated cost: $999,211 (per year), includes $0 annualized capital or operation and maintenance costs.

Changes in estimates: There is a decrease of 26,490 hours in the total estimated respondent burden compared with the ICR currently approved by OMB. This decrease is due to an updated estimate of the number of sources and permits subject to the 40 CFR part 70 programs (a reduction of 1,768 permits), an increase in the number of permitting authorities (an addition of one), and a decrease in the number of CAM plan renewal review hours (a decrease of 5.5 hours per occurrence), rather than any new federal mandates (i.e., changes in paperwork requirements to respondents). The decrease in total estimated burden hours leads to a decrease in total estimated cost.

Dated: August 21, 2019.
Penny Lassiter,
Director, Sector Policies and Program Division.

[FR Doc. 2019-18311 Filed 8-23-19; 8:45 am]

BILLING CODE 6560-50-P